DEPARTMENT OF LABOR

Employee Benefits Security Administration

159th Meeting of the Advisory Council on Employee Welfare and Pension Benefit Plans; Notice of Meeting

Pursuant to the authority contained in Section 512 of the Employee Retirement Income Security Act of 1974 (ERISA), 29 U.S.C. 1142, the 159th open meeting of the Advisory Council on Employee Welfare and Pension Benefit Plans (also known as the ERISA Advisory Council) will be held on November 8-9, 2011.

The meeting will take place in C-5515 Room 1-A, U.S. Department of Labor, 200 Constitution Avenue NW., Washington, DC 20210 on November 8, from 1 p.m. to approximately 5 p.m. On November 9, the meeting will start at 9 a.m. and conclude at approximately 4 p.m., with a break for lunch, in Room S-2508 at the same address. The purpose of the open meeting is for the Advisory Council members to finalize the recommendations they will present to the Secretary. At the November 9 afternoon session, the Council members will receive an update from the Assistant Secretary of Labor for the Employee Benefits Security Administration (EBSA) and present their recommendations.

The Council recommendations will be on the following issues: (1) Current Challenges and Best Practices for ERISA Compliance for 403(b) Plan Sponsors; (2) Hedge Funds and Private Equity Investments; and, (3) Privacy and Security Issues Affecting Employee Benefit Plans (other than health care plans). Descriptions of these topics are available on the Advisory Council page of the EBSA web site, at http://www.dol.gov/ebsa/aboutebsa/erisa_advisory_council.html.

Organizations or members of the public wishing to submit a written statement may do so by submitting 30 copies on or before November 1, 2011 to Larry Good, Executive Secretary, ERISA Advisory Council, U.S. Department of Labor, Suite N-5623, 200 Constitution Avenue NW., Washington, DC 20210. Statements also may be submitted as e-mail attachments in text or pdf format transmitted to good.larry@dol.gov. It is requested that statements not be included in the body of the e-mail. Statements deemed relevant by the Advisory Council and received on or before November 1, 2011 will be included in the record of the meeting and available in the EBSA Public Disclosure room. Do not include any personally identifiable information (such as name, address, or other contact information) or confidential business information that you do not want publicly disclosed.

Individuals or representatives of organizations wishing to address the Advisory Council should send their requests to the Executive Secretary at one of the addresses provided above or call (202) 693-8668. Oral presentations will be limited to ten minutes, time permitting, but an extended statement may be submitted for the record. Individuals with disabilities who need special accommodations should contact the Executive Secretary by November 1.

Signed at Washington, DC this 14th day of October, 2011.
Michael L. Davis,
Deputy Assistant Secretary, Employee Benefits Security Administration.

[FR Doc. 2011-27064 Filed 10-19-11; 8:45 am]

BILLING CODE 4510-29-P